DEPARTMENT OF HEALTH AND HUMAN SERVICES

Health Resources and Services Administration

[OMB No. 0915-0318—Revision]

Agency Information Collection Activities: Submission to OMB for Review and Approval; Public Comment Request; Ryan White HIV/AIDS Program: Allocations Forms

AGENCY: Health Resources and Services Administration (HRSA), Department of Health and Human Services.

ACTION: Notice.

SUMMARY: In compliance with of the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than March 10, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call 301-594-4394.

SUPPLEMENTARY INFORMATION: When submitting comments or requesting information, please include the ICR title for reference.

Information Collection Request Title: Ryan White HIV/AIDS Program: Allocations Forms, OMB No. 0915-0318—Revision.

Abstract: HRSA administers the Ryan White HIV/AIDS Program (RWHAP) authorized under Title XXVI of the Public Health Service Act. The RWHAP Allocations and Expenditures Reports (A&E Reports) allow HRSA to monitor and track the use of grant funds for compliance with program and grants policies, and requirements as outlined in the legislation. To avoid duplication and reduce recipient reporting burden, HRSA created an electronic grantee contract management system (GCMS) that includes data required for various reports, including the Allocations Reports and other HRSA data reports, such as the RWHAP Services Report. Recipients can access GCMS year-round to upload or manually enter data on their service provider contractors or subrecipients, the RWHAP core medical and support services provided, and their funding amounts. Data required for Allocations Reports and other reports are automatically prepopulated from GCMS. Expenditures Report data are not auto-populated in the GCMS, and are still manually entered into the data reporting system.

Allocations and Expenditures (A&E) Reports

Recipients funded under RWHAP Parts A, B, C, and D are required to report financial data to HRSA at the beginning (Allocations Report) and at the end (Expenditures Report) of their grant budget period. The A&E Reports request information recipients already collect, including the use of RWHAP grant funds for core medical and support services; and on various program components, such as administration, planning and evaluation, and clinical quality management (CQM). RWHAP Parts A and B recipients funded under the Ending the HIV Epidemic in the U.S. (EHE) initiative are also required to report allocations and expenditures of the grant budget period in the EHE A&E Reports. This allows HRSA to track and report progress toward meeting the EHE goals.

The reports are similar in content; however, in the first report, recipients document the allocation of their RWHAP or EHE grant award at the beginning of their grant budget period. In the second report, recipients document actual expenditures of their RWHAP or EHE grant award (including any carryover dollars) at the end of their grant budget period.

HRSA proposes the following updates to the RWHAP Allocations Reports.

RWHAP Part A Allocations Report

• Revising row and column headers and other language for clarity and alignment with RWHAP requirements;

• Combining the columns for RWHAP Part A Formula and Supplemental Allocation amounts and updating the title;

• Moving the RWHAP Part A Minority AIDS Initiative (MAI) Award Amount row after the RWHAP Part A Supplemental Award Amount row;

• Changing the calculation for Service Allocation Subtotal percent in the Total RWHAP Part A Allocation Amounts column;

• Blacking out the percent columns for the RWHAP Part A Formula and Supplemental Allocation Amounts, RWHAP Part A MAI Allocation Amounts, and selected cells in the Total RWHAP Part A Allocation Amounts column; and

• Adding the Legislative Requirements Checklist.

RWHAP Part B Allocations Report

• Revising row and column headers and other language for clarity and alignment with RWHAP requirements;

• Adding the following rows to Table 1: 4c. Part B HIV Care Consortia Planning & Evaluation/Emerging Communities (EC) HIV Care Consortia Planning & Evaluation and 4d. Part B HIV Care Consortia CQM/EC HIV Care Consortia CQM except for the AIDS Drug Assistance Program (ADAP) Earmark + ADAP Supplemental Award cells;

• Removing row 11. Total Part B X07 Allocations;

• Allowing users to enter data in Table 2 for 1d. Health Insurance Premium & Cost Sharing and 1e. Home and Community-based Health Services;

• Blacking out selected cells in the following rows, columns, or tables:

2. Part B Health Insurance Premium & Cost Sharing Assistance for Low-Income Individuals (Table 1) as this information is also reported in Table 2

3. Part B Home and Community-based Health Services (Table 1) as this information is also reported in Table 2

4. Total Column (Table 1)

1a. ADAP Treatments (Table 2) as this information is also reported in Table 1

MAI Award (Table 3)

• Updating calculations and language in the Legislative Requirements Checklist; and

• Removing the following services under the Legislative Requirements Checklist's Core Medical Services:

Health Insurance Premium & Cost Sharing Assistance, and

Home and Community-based Health Services.

RWHAP Part C Allocations Report

• There are no proposed changes to the RWHAP Part C Allocations Report.

RWHAP Part D Allocations Report

• There are no proposed changes to the RWHAP Part D Allocations Report.

HRSA EHE Initiative A&E Reports

• There are no proposed changes to the HRSA EHE Allocations Reports. A 60-day notice published in the Federal Register, 87 FR pp. 71339-40 (November 22, 2022). There were no public comments.

Need and Proposed Use of the Information: Accurate allocation, expenditure, and service contract records of the recipients receiving RWHAP and EHE funding are critical to the implementation of the RWHAP legislation and EHE initiative appropriation language and thus are necessary for HRSA to fulfill its monitoring and oversight responsibilities.

Likely Respondents: RWHAP Part A, Part B, Part C, and Part D recipients.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Part A Allocations Report | 52 | 1 | 52 | 4 | 208
Part B Allocations Report | 54 | 1 | 54 | 6 | 324
Part C Allocations Report | 346 | 1 | 346 | 4 | 1,384
Part D Allocations Report | 116 | 1 | 116 | 4 | 464
EHE Allocations Reports | 47 | 1 | 47 | 4 | 188
Total | 615 |  |  |  | 2,568

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-02686 Filed 2-7-23; 8:45 am]

BILLING CODE 4165-15-P